NUCLEAR REGULATORY COMMISSION

Sunshine Federal Register Notice

Agency Holding The Meetings: Nuclear Regulatory Commission.

DATES: Weeks of September 14, 21, 28, October 5, 12, 19, 2009.

Place: Commissioners' Conference Room, 11555 Rockville Pike, Rockville, Maryland.

Status: Public and Closed.

Week of September 14, 2009

There are no meetings scheduled for the week of September 14, 2009.

Week of September 21, 2009—Tentative

Tuesday, September 22, 2009

9:25 a.m.

Affirmation Session (Public Meeting) (Tentative). Final Rule Establishing Criminal Penalties for the Unauthorized Introduction of Weapons into Facilities Designated by the Nuclear Regulatory Commission. (Tentative)

This meeting will be webcast live at the Web address— http://www.nrc.gov.

9:30 a.m.

Periodic Briefing on New Reactor Issues—Progress in Resolving Inspections, Tests, Analysis, and Acceptance Criteria (ITAAC) Closure (Public Meeting). (Contact: Debby Johnson, 301-415-1415.)

This meeting will be webcast live at the Web address— http://www.nrc.gov

Week of September 28, 2009—Tentative

Wednesday, September 30, 2009

9:30 a.m.

Discussion of Management Issues (Closed—Ex. 2).

Week of October 5, 2009—Tentative

There are no meetings scheduled for the week of October 5, 2009.

Week of October 12, 2009—Tentative

There are no meetings scheduled for the week of October 12, 2009.

Week of October 19, 2009—Tentative

There are no meetings scheduled for the week of October 19, 2009.

* * * * *

* The schedule for Commission meetings is subject to change on short notice. To verify the status of meetings, call (recording)—(301) 415-1292. Contact person for more information: Rochelle Bavol, (301) 415-1651.

* * * * *

The NRC Commission Meeting Schedule can be found on the Internet at: http://www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, Rohn Brown, at 301-492-2279, TDD: 301-415-2100, or by e-mail at rohn.brown@nrc.gov. Determinations on requests for reasonable accommodation will be made on a case-by-case basis.

* * * * *

This notice is distributed electronically to subscribers. If you no longer wish to receive it, or would like to be added to the distribution, please contact the Office of the Secretary, Washington, DC 20555 (301-415-1969), or send an e-mail to darlene.wright@nrc.gov.

Dated: September 9, 2009.
Rochelle C. Bavol,
Office of the Secretary.

[FR Doc. E9-22211 Filed 9-10-09; 4:15 pm]

BILLING CODE 7590-01-P